DEPARTMENT OF THE TREASURY

Submission for OMB Review; Comment Request

January 8, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

Dates: Written comments should be received on or before February 13, 2004 to be assured of consideration.

Internal Revenue Service (IRS)

OMB Number: 1545-1829.

Regulation Project Number: REG-209682-94 Final.

Type of Review: Extension.

Title: Adjustments Following Sales of Partnership Interests.

Description: Partnerships, with a section 754 election in effect, are required to adjust the basis of partnership property following certain transfers of partnership interests. The regulations require the partnership to attach a statement to its partnership return indicating the adjustment and how it was allocated among the partnership property.

Respondents: Business or other for-profit.

Estimated Number of Respondents/Recordkeepers: 226,000.

Estimated Burden Hours Respondent/Recordkeeper: 4 hours.

Frequency of Response: On occasion.

Estimated Total Reporting/Recordkeeping Burden: 904,000 hours.

Clearance Officer: Robert M. Coar, (202) 622-3579, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-796 Filed 1-13-04; 8:45 am]

BILLING CODE 4830-01-P